DEPARTMENT OF HOUSING AND URBAN DEVELOPMENT

[Docket No. FR-5300-FA-21]

Announcement of Funding Awards for the Section 202 Supportive Housing for the Elderly Program Fiscal Year 2009

AGENCY: Office of the Assistant Secretary for Housing-Federal Housing Commissioner, HUD.

ACTION: Notice of funding awards.

SUMMARY: In accordance with section 102 (a)(4)(C) of the Department of Housing and Urban Development Reform Act of 1989, this announcement notifies the public of funding decisions made by the Department in a competition for funding under the Notice of Funding Availability (NOFA) for the Section 202 Supportive Housing for the Elderly Program. This announcement contains the names of the awardees and the amounts of the awards made available by HUD.

FOR FURTHER INFORMATION CONTACT: Ms. Aretha Williams, Acting Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Website at http://www.hud.gov.

SUPPLEMENTARY INFORMATION: The Section 202 Supportive Housing for the Elderly Program is authorized by section 202 of the Housing Act of 1959 (12 U.S.C. 1701q), as amended by section 801 of the Cranston-Gonzalez National Affordable Housing Act (Pub. L. 101-625, approved November 28, 1990); the Housing and Community Development Act of 1992 (Pub. L. 102-550, approved October 28, 1992); the Rescissions Act (Pub. L. 104-19, enacted on July 27, 1995); the American Homeownership and Economic Opportunity Act of 2000 (Pub. L. 106-569, approved December 27, 2000); the Housing and Economic Recovery Act of 2008 (Pub. L. 110-289, approved July 30, 2008) and the Omnibus Appropriations Act, 2009 (Pub. L. 111-8, approved March 11, 2009).

The competition was announced in the SuperNOFA published in the Federal Register on September 1, 2009. Applications were rated and selected for funding on the basis of selection criteria contained in that Notice.

The Catalog of Federal Domestic Assistance number for this program is 14.157.

The Section 202 program is the Department's primary program for providing affordable housing for the elderly that allows them to live independently with supportive services. Under this program, HUD provides funds to private non-profit organizations and consumer cooperatives to develop supportive housing for the elderly. Funds are also provided to subsidize the expenses to operate the housing projects.

A total of $453,158,000 was awarded to 101 projects for 3,017 units nationwide. In accordance with section 102(a)(4)(C) of the Department of Housing and Urban Development Reform Act of 1989 (103 Stat. 1987. 42 U.S.C. 3545), the Department is publishing the awardees and amounts of the awards in Appendix A of this document.

Dated: August 17, 2011.
Carol J. Galante,
Acting Assistant Secretary for Housing-Federal Housing Commissioner.

Appendix A—Section 202 Supportive Housing for the Elderly

Alabama

Dothan, AL

Bnai Brith Housing Inc

Co-Sponsor: Wiregrass Foundation

Capital Advance: $4,007,200

Three-year Rental Subsidy: $354,600

Number of units: 37

Citronelle, AL

Order of AHEPA William G Helis Chapter No 310

Co-Sponsor: AHEPA of Mobile Inc

Capital Advance: $3,968,400

Three-year Rental Subsidy: $354,600

Number of units: 37

Alaska

Anchorage, AK

Anchorage Neighborhood Housing Services, Inc

Capital Advance: $4,362,900

Three-year Rental Subsidy: $412,200

Number of units: 20

Arizona

Tucson, AZ

Family Housing Resources, Inc.

Capital Advance: $4,679,400

Three-year Rental Subsidy: $427,200

Number of units: 43

Arkansas

Little Rock, AR

Christopher Homes of Arkansas

Capital Advance: $1,922,800

Three-year Rental Subsidy: $178,200

Number of units: 20

California

Auburn, CA

Mercy Housing California

Capital Advance: $6,073,600

Three-year Rental Subsidy: $505,200

North Hollywood, CA

Menorah Housing Foundation

Capital Advance: $12,953,300

Three-year Rental Subsidy: $1,403,700

Number of units: 82

Rialto, CA

TELACU

Capital Advance: $11,850,400

Three-year Rental Subsidy: $1,282,200

Number of units: 75

San Francisco, CA

Mercy Housing California

Capital Advance: $12,936,600

Three-year Rental Subsidy: $1,566,300

Number of units: 87

Colorado

Longmont, CO

Longmont Housing Development Corp.

Capital Advance: $6,802,700

Three-year Rental Subsidy: $539,400

Number of units: 50

Connecticut

Cornwall, CT

Cornwall Housing Corporation

Capital Advance: $752,900

Three-year Rental Subsidy: $73,200

Number of units: 5

Cornwall, CT

Cornwall Housing Corporation

Capital Advance: $752,900

Three-year Rental Subsidy: $73,200

Number of units: 5

Waterbury, CT

Grace Development Corporation

Capital Advance: $6,173,900

Three-year Rental Subsidy: $598,800

Number of Units: 41

Florida

Fort Myers, FL

Diocese of Venice

Capital Advance: $9,724,600

Three-year Rental Subsidy: $691,200

Number of Units: 68

Pembroke Pines, FL

Miami Jewish Home & Hospital

Capital Advance: $10,634,700

Three-year Rental Subsidy: $762,300

Number of Units: 75

Georgia

Atlanta, GA

National Church Residences

Capital Advance: $3,906,300

Three-year Rental Subsidy: $343,200

Number of Units: 36

Cairo, GA

Family Worship Center Church of God

Capital Advance: $1,443,200

Three-year Rental Subsidy: $137,400

Number of Units: 14

Savannah, GA

United Church Residence

Capital Advance: $4,337,800

Three-year Rental Subsidy: $382,200

Number of Units: 40

Hawaii

Hilo, HI

Hawaii Island Community Dev. Corp.

Capital Advance: $1,042,500

Three-year Rental Subsidy: $72,300

Number of Units: 5

Hilo, HI

Hawaii Island Community Dev. Corp.

Capital Advance: $1,042,500

Three-year Rental Subsidy: $72,300

Number of Units: 5

Hilo, HI

Hawaii Island Community Dev. Corp.

Capital Advance: $1,042,500

Three-year Rental Subsidy: $72,300

Number of Units: 5

Hilo, HI

Hawaii Island Community Dev. Corp.

Capital Advance: $1,042,500

Three-year Rental Subsidy: $72,300

Number of Units: 5

Hilo, HI

Hawaii Island Community Dev. Corp.

Capital Advance: $1,085,400

Three-year Rental Subsidy: $57,900

Number of Units: 5

Hilo, HI

Hawaii Island Community Dev. Corp.

Capital Advance: $1,042,500

Three-year Rental Subsidy: $72,300

Number of Units: 5

Hilo, HI

Hawaii Island Community Dev. Corp.

Capital Advance: $1,042,500

Three-year Rental Subsidy: $72,300

Number of Units: 5

Hilo, HI

Hawaii Island Community Dev. Corp.

Capital Advance: $1,042,500

Three-year Rental Subsidy: $72,300

Number of Units: 5

Idaho

Boise, ID

Mercy Housing Idaho Inc.

Capital Advance: $4,297,700

Three-year Rental Subsidy: $429,600

Number of Units: 42

Illinois

Chicago, IL

Cath Charities Hsg Devl Corp

Capital Advance: $6,617,100

Three-year Rental Subsidy: $490,500

Number of Units: 42

McHenry, IL

Luth Social Service of Illinois

Capital Advance: $9,487,100

Three-year Rental Subsidy: $689,100

Number of Units: 60

Rushville, IL

West Central Illinois Area Agency on Aging

Capital Advance: $2,076,300

Three-year Rental Subsidy: $175,200

Number of Units: 15

Indiana

Culver, IN

Garden Court, Inc.

Capital Advance: $1,445,600

Three-year Rental Subsidy: $144,000

Number of Units: 13

Mishawaka, IN

AHEPA National Housing Corporation

Capital Advance: $5,817,300

Three-year Rental Subsidy: $553,500

Number of Units: 50

Iowa

Ft. Madison, IA

West Central Illinois Area Agency on Aging

Capital Advance: $2,108,100

Three-year Rental Subsidy: $141,600

Number of Units: 14

Manning, IA

Manning Community Services, Inc.

Capital Advance: $903,500

Three-year Rental Subsidy: $60,900

Number of Units: 6

Kansas

Kansas City, KS

Roswell Church of Christ

Capital Advance: $5,158,700

Three-year Rental Subsidy: $463,200

Number of Units: 41

Kentucky

Louisville, KY

Catholic Charities of Louisville

Capital Advance: $2,763,200

Three-year Rental Subsidy: $249,600

Number of Units: 24

Louisiana

Abbeville, LA

Diocese of Lafayette

Capital Advance: $1,019,300

Three-year Rental Subsidy: $93,000

Number of Units: 10

Kaplan, LA

Diocese of Lafayette

Capital Advance: $1,019,300

Three-year Rental Subsidy: $83,700

Number of Units: 10

Maine

Saco, ME

VOANNE

Capital Advance: $2,363,200

Three-year Rental Subsidy: $182,100

Number of Units: 15

Saco, ME

VOANNE

Capital Advance: $2,520,800

Three-year Rental Subsidy: $194,100

Number of Units: 16

Maryland

Baltimore, MD

Associated Catholic Charities

Capital Advance: $5,980,900

Three-year Rental Subsidy: $566,400

Number of Units: 47

Silver Spring, MD

National Caucus & Center on Black Aged

Co-Sponsor: Korean Community Service Center of Greater Washington

Capital Advance: $3,812,100

Three-year Rental Subsidy: $331,200

Number of Units: 27

Massachusetts

Boston, MA

Rogerson Communities, Inc

Capital Advance: $5,688,600

Three-year Rental Subsidy: $573,300

Number of Units: 37

Ludlow, MA

HAP, INC

Capital Advance: $4,391,300

Three-year Rental Subsidy: $434,100

Number of Units: 28

Michigan

Davison, MI

Taekens Terrace Nonprofit Christian Ministries

Capital Advance: $8,390,800

Three-year Rental Subsidy: $757,500

Number of Units: 61

Grand Rapids, MI

The Citizens for Better Living Inc.

Capital Advance: $3,512,200

Three-year Rental Subsidy: $372,000

Number of Units: 36

Minnesota

Minneapolis, MN

CommonBond Communities

Co-Sponsor: American Indian Community Development Corporation

Capital Advance: $6,778,000

Three-year Rental Subsidy: $566,400

Number of Units: 47

Minneapolis, MN

CommonBond Communities

Co-Sponsor: Plymouth Church Neighborhood Foundation

Capital Advance: $6,056,900

Three-year Rental Subsidy: $506,100

Number of Units: 42

Mississippi

Gautier, MS

VOA Southeast, Inc.

Capital Advance: $2,012,800

Three-year Rental Subsidy: $271,800

Number of Units: 20

Picayune, MS

VOA Southeast, Inc.

Capital Advance: $1,195,400

Three-year Rental Subsidy: $108,300

Number of Units: 12

Missouri

St. Louis, MO

Lutheran Sr Svcs

Capital Advance: $4,995,600

Three-year Rental Subsidy: $428,700

Number of Units: 36

St. Louis, MO

Ahepa 53 Inc

Co-Sponsor: AHEPA National Housing Corporation

Capital Advance: $4,995,600

Three-year Rental Subsidy: $428,700

Number of Units: 36

Nebraska

Papillion, NE

Immanuel Health Sys

Capital Advance: $2,409,300

Three-year Rental Subsidy: $203,400

Number of Units: 20

Nevada

Las Vegas, NV

Accessible Space, Inc.

Capital Advance: $4,665,100

Three-year Rental Subsidy: $385,200

Number of Units: 34

New Hampshire

Campton, NH

SNHS Management Corporation

Capital Advance: $2,520,800

Three-year Rental Subsidy: $188,700

Number of Units: 16

Manchester, NH

SNHS Management Corporation

Capital Advance: $3,151,000

Three-year Rental Subsidy: $235,800

Number of Units: 20

Plymouth, NH

SNHS Management Corporation

Capital Advance: $2,520,800

Three-year Rental Subsidy: $188,700

Number of Units: 16

Plymouth, NH

SNHS Management Corporation

Capital Advance: $2,520,800

Three-year Rental Subsidy: $188,700

Number of Units: 16

New Jersey

Basking Ridge, NJ

Ridge Oak Management Inc

Capital Advance: $3,151,000

Three-year Rental Subsidy: $423,900

Number of Units: 20

Rahway, NJ

The Domus Corp

Co-Sponsor: Cath Char of the Archdiocese of Newark

Capital Advance: $8,069,100

Three-year Rental Subsidy: $1,059,300

Number of Units: 51

Teaneck, NJ

Geriatric Ser, Inc

Capital Advance: $9,782,100

Three-year Rental Subsidy: $1,292,100

Number of Units: 62

New York

Bronx, NY

The Hebrew Home for the Aged at Riverdale

Capital Advance: $9,329,600

Three-year Rental Subsidy: $1,419,300

Number of Units: 59

Bronx, NY

Highbridge Community HDFC Inc

Capital Advance: $9,802,200

Three-year Rental Subsidy: $1,492,800

Number of Units: 62

Brooklyn, NY

Cypress Hills Local Development Corp.

Capital Advance: $8,541,800

Three-year Rental Subsidy: $1,296,900

Number of Units: 54

Dewitt, NY

Christopher Community

Capital Advance: $4,803,500

Three-year Rental Subsidy: $455,400

Number of Units: 37

Henrietta, NY

Episcopal Senior Life Communities

Capital Advance: $2,617,700

Three-year Rental Subsidy: $247,200

Number of Units: 20

Webster, NY

Continuing Development Services

Capital Advance: $2,617,700

Three-year Rental Subsidy: $247,200

Number of Units: 20

North Carolina

Carthage, NC

St. Joseph of the Pines

Capital Advance: $2,747,500

Three-year Rental Subsidy: $187,200

Number of Units: 19

Charlotte, NC

Retirement Housing Foundation

Capital Advance: $7,216,700

Three-year Rental Subsidy: $488,700

Number of Units: 48

Rockingham, NC

John H. Wellons Foundation Inc

Capital Advance: $2,843,800

Three-year Rental Subsidy: $197,700

Number of Units: 19

Rockingham, NC

John H. Wellons Foundation Inc

Capital Advance: $2,843,800

Three-year Rental Subsidy: $197,700

Number of Units: 19

Salisbury, NC

Catholic Diocese of Charlotte Housing Corp.

Co-Sponsor: North Carolina Housing Foundation, Incorporated

Capital Advance: $2,876,100

Three-year Rental Subsidy: $187,200

Number of Units: 19

North Dakota

Jamestown, ND

Lutheran Social Services Housing, Incorporated

Capital Advance: $2,951,000

Three-year Rental Subsidy: $186,900

Number of Units: 20

Ohio

Batavia, OH

Clermont Senior Services

Capital Advance: $4,630,200

Three-year Rental Subsidy: $435,000

Number of Units: 40

Bedford Hts, OH

National Church Residences

Capital Advance: $5,138,600

Three-year Rental Subsidy: $496,800

Number of Units: 40

Bellefontaine, OH

Housing Service Alliance

Co-Sponsor: Tri-County Community Action

Capital Advance: $1,223,200

Three-year Rental Subsidy: $121,200

Number of Units: 11

Kettering, OH

Franklin Foundation

Capital Advance: $2,663,600

Three-year Rental Subsidy: $256,500

Number of Units: 24

Marion, OH

Lutheran Social Services of OH

Capital Advance: $1,223,200

Three-year Rental Subsidy: $121,200

Number of Units: 11

North Orange, OH

Franklin Foundation

Capital Advance: $2,246,900

Three-year Rental Subsidy: $209,100

Number of Units: 20

Oklahoma

Seminole, OK

Central Oklahoma Community Action

Capital Advance: $1,244,200

Three-year Rental Subsidy: $105,600

Number of Units: 12

Shawnee, OK

Native American Housing Services

Capital Advance: $2,059,600

Three-year Rental Subsidy: $182,100

Number of Units: 20

Oregon

Cascade Locks, OR

Columbia Cascade Housing Corporation

Capital Advance: $1,633,800

Three-year Rental Subsidy: $129,300

Number of Units: 13

Pennsylvania

Philadelphia, PA

Cath Health Care Ser Diocese Philadelphia

Capital Advance: $9,811,200

Three-year Rental Subsidy: $990,600

Number of Units: 63

Verona, PA

National Church Residences

Capital Advance: $5,117,600

Three-year Rental Subsidy: $438,300

Number of Units: 40

Rhode Island

South Kingstown, RI

Women's Development Corp

Capital Advance: $3,151,000

Three-year Rental Subsidy: $288,900

Number of Units: 20

South Carolina

Loris, SC

Horry County Council on Aging Inc

Capital Advance: $3,324,400

Three-year Rental Subsidy: $268,200

Number of Units: 28

Tennessee

Johnson City, TN

Metropolitan Housing and CDC, Inc.

Capital Advance: $2,282,000

Three-year Rental Subsidy: $182,100

Number of Units: 20

Lebanon, TN

Cumberland Regional Development Corp.

Capital Advance: $3,919,000

Three-year Rental Subsidy: $313,200

Number of Units: 35

Monterey, TN

Volunteer Housing Development Corp

Capital Advance: $1,184,900

Three-year Rental Subsidy: $92,100

Number of Units: 11

Texas

Alton, TX

National Farm Workers Service Center Incorporated

Capital Advance: $3,579,700

Three-year Rental Subsidy: $381,600

Number of Units: 41

Gonzales, TX

George Gervin Youth Center, Inc.

Capital Advance: $727,400

Three-year Rental Subsidy: $76,500

Number of Units: 8

Houston, TX

AHEPA National CORP.

Capital Advance: $4,744,700

Three-year Rental Subsidy: $464,700

Number of Units: 45

Lubbock, TX

National Church Residences

Co-Sponsor: North & East Lubbock Comm Devl

Capital Advance: $6,173,400

Three-year Rental Subsidy: $651,900

Number of Units: 66

San Antonio, TX

George Gervin Youth Center, Inc.

Capital Advance: $3,996,100

Three-year Rental Subsidy: $381,600

Number of Units: 41

Utah

Vernal, UT

Uintah Basin Assistance Council

Capital Advance: $2,320,100

Three-year Rental Subsidy: $193,200

Number of Units: 20

Vermont

Vergennes, VT

Addison County Community Trust

Capital Advance: $1,260,400

Three-year Rental Subsidy: $94,800

Number of Units: 8

Virginia

Rocky Mount, VA

Metropolitan Housing and CDC, Inc.

Capital Advance: $5,351,500

Three-year Rental Subsidy: $474,000

Number of Units: 44

Woodstock, VA

Shenandoah Area Agency on Aging

Capital Advance: $1,337,800

Three-year Rental Subsidy: $118,500

Number of Units: 11

Washington

Omak, WA

Okonogan County Community Action Council

Capital Advance: $1,158,500

Three-year Rental Subsidy: $101,100

Number of Units: 10

White Center, WA

Providence Health Services

Capital Advance: $8,297,800

Three-year Rental Subsidy: $767,400

Number of Units: 55

Wisconsin

Franklin, WI

CommonBond Communities

Capital Advance: $4,090,200

Three-year Rental Subsidy: $339,000

Number of Units: 30

Wyoming

Sheridan, WY

Volunteers of America

Capital Advance: $2,130,900

Three-year Rental Subsidy: $131,100

Number of Units: 15

[FR Doc. 2011-22727 Filed 9-2-11; 8:45 am]

BILLING CODE 4210-67-P